DEPARTMENT OF EDUCATION

Annual Notice of Interest Rates of Federal Student Loans Made Under the Federal Family Education Loan Program

AGENCY: Federal Student Aid, Department of Education.

ACTION: Notice; correction.

SUMMARY: On January 25, 2013, the Chief Operating Officer for Federal Student Aid in the U.S. Department of Education published in the Federal Register (78 FR 5433) a notice announcing the interest rates for the period July 1, 2012, through June 30, 2013, for certain loans made under the Federal Family Education Loan Program. We correct two of the charts in that notice.

DATES: Effective March 22, 2013.

SUPPLEMENTARY INFORMATION: On page 5434 we correct Chart 1 to read as follows:

Chart 1—“Converted” Variable-Rate Federal Subsidized and Unsubsidized Stafford Loans
Cohort: First disbursed on or after | Cohort: First disbursed before | Original fixed interest rate | Max. rate (percent) | 91-Day T-bill rate (percent) | Margin (percent) | Total rate (percent)
7/1/1988 | 7/23/1992 | 8.00%, increasing to 10.00% | 10.00 | 0.09 | 3.25 | 3.34
7/23/1992 | 10/1/1992 | 8.00%, increasing to 10.00% | 10.00 | 0.09 | 3.25 | 3.34
7/23/1992 | 7/1/1994 | 7.00% | 7.00 | 0.09 | 3.10 | 3.19
7/23/1992 | 7/1/1994 | 8.00% | 8.00 | 0.09 | 3.10 | 3.19
7/23/1992 | 7/1/1994 | 9.00% | 9.00 | 0.09 | 3.10 | 3.19
7/23/1992 | 7/1/1994 | 8.00%, increasing to 10.00% | 10.00 | 0.09 | 3.10 | 3.19

Immediately following the chart we add:

“Note: The FFEL Program loans represented by the second row of the chart were only made to “new borrowers” on or after July 23, 1992.”

We corrected the margin column for what were the second, third, and fourth rows (now the third, fourth, and fifth rows) to read 3.10 percent, rather than 3.25 percent. The total rate column reflects the margin rate changes.

We added a sixth row, to differentiate between two cohorts of “converted” variable-rate loans that were originally fixed-rate loans with rates that began at 8 percent, but increased to 10 percent after 4 years of repayment.

We added a cohort column, consistent with other charts in the notice, to provide additional specificity as to when the FFEL Program loans represented in the chart were made.

On page 5434 we correct Chart 2 to read:

Chart 2—Variable-Rate Federal Subsidized and Unsubsidized Stafford Loans
Cohort: First disbursed on or after | Cohort: First disbursed before | Max. rate (percent) | 91-Day T-bill rate (percent) | Margin: In-school, grace, deferment (percent) | Margin: All other periods (percent) | Total rate: In-school, grace, deferment (percent) | Total rate: All other periods (percent)
10/1/1992 | 7/1/1994 | 9.00 | 0.09 | 3.10 | 3.10 | 3.19 | 3.19
7/1/1994 | †7/1/1994 | 9.00 | 0.09 | 3.10 | 3.10 | 3.19 | 3.19
7/1/1994 | 7/1/1995 | 8.25 | 0.09 | 3.10 | 3.10 | 3.19 | 3.19
7/1/1995 | 7/1/1998 | 8.25 | 0.09 | 2.50 | 3.10 | 2.59 | 3.19
7/1/1998 | 7/1/2006 | 8.25 | 0.09 | 1.70 | 2.30 | 1.79 | 2.39

We corrected the maximum rate column for the second row from 8.25 percent to 9 percent.

The Note following Chart 2 in the interest rate notice is correct, and we do not republish it here.

As a reminder, a dagger following a date in the cohort fields indicates that the trigger for the rate to apply is a period of enrollment for which the loan was intended either “ending before” or “beginning on or after” the date in the cohort field.

FOR FURTHER INFORMATION CONTACT: Ian Foss, U.S. Department of Education, 830 First Street NE., Room 114I1, Washington, DC 20202-5354. Telephone: (202) 377-3681 or by email: ian.foss@ed.gov.

If you use a telecommunications device for the deaf (TDD) or text telephone (TTY), call the Federal Relay Service (FRS) at 1-800-877-8339.

Individuals with disabilities can obtain this document in an accessible format (e.g., Braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 19, 2013.
James W. Runcie,
Chief Operating Officer, Federal Student Aid.

[FR Doc. 2013-06653 Filed 3-21-13; 8:45 am]

BILLING CODE 4000-01-P